DEPARTMENT OF HEALTH AND HUMAN SERVICES

Office of the Secretary

Secretary's Council on Public Health Preparedness; Notice of Meeting

Pursuant to Section 10(a) of the Federal Advisory Committee Act, as amended (5 U.S.C. Appendix 2), notice is given of a meeting of the Secretary's Council on Public Health Preparedness.

The purpose of this public meeting is to convene the Council to discuss issues related to preparing the nation to respond to public health emergencies in general and bioterrorism in particular. Major areas to be considered by the Council at this meeting may include but are not restricted to the following: a status report on the CDC and HRSA cooperative agreements awarded to states and other jurisdictions for bioterrorism preparedness and response programs, overview of states' smallpox vaccination programs, update on the development of vaccines, and discussions of the role of academic health centers in local/regional public health preparedness.

Name of Committee: Secretary's Council on Public Health Preparedness.

Date: January 14-15, 2003.

Time: January 14, 10 a.m.-5:30 p.m., January 15, 9 a.m. to 3:30 p.m.

Place: Marriott Key Bridge, 1401 Lee Highway, Arlington, Virginia 22209, 703-524-6400.

Contact Person: Lily Engstrom, Executive Director, Secretary's Council on Public Health Preparedness, Office of the Assistance Secretary for Public Health Emergency Preparedness, 200 Independence Avenue, SW., Room 638G, Washington, DC 20201, 202-690-6629.

SUPPLEMENTARY INFORMATION: The Secretary's Council on Public Health Preparedness was established on October 22, 2001, by the Secretary of Health and Human Services under authorization of Section 319 of the Public Health Service Act (42 U.S.C. § 247d); Section 222 of the Public Health Preparedness will be to advise the Secretary on appropriate actions to prepare for and respond to public health emergencies including acts of bioterrorism. The function of the Council is to advise the Secretary regarding steps that the U.S. Department of Health and Human Services can take to (1) improve the public health and health care infrastructure to better enable Federal, State, and local governments to respond to a public health emergency and, specifically, a bio-terrorism event; (2) ensure that there are comprehensive contingency plans in place at the Federal, State, and local levels to respond to a public health emergency and, specifically, a bio-terrorism event; and (3) improve public health preparedness at the Federal, State, and local levels.

Public Participation

The meeting is open to the public with attendance limited by the availability of space on a first come, first served basis. Members of the public who wish to attend the meeting may register by emailing publichealth@iqsolutions.com no later than close of business, Monday, January 6, 2003. All requests should include the name, address, telephone number, and business or professional affiliation of those registering.

Opportunities for oral statements by the public will be provided on January 14 at 4:30 p.m. (Time approximate). Oral comments will be limited to five minutes, three minutes to make a statement and two minutes to respond to questions from Council members. Due to time constraints, only one representative from each organization will be allotted time for oral testimony. The number of speakers and the time allotment may also be limited by the number of registrants. Members of the public who wish to present oral comments at the meeting may register by emailing publichealth@iqsolutions.com no later than close of business, Monday, January 6, 2003. All requests to present oral comments should include the name, addressed, telephone number, and business or professional affiliation of the interested party, and should indicate the areas of interest or issue to be addressed.

Any person attending the meeting who has not registered to speak in advance of the meeting will be allowed to make a brief oral statement during the time set aside for public comment if time permits and at the Chairperson's discretion. Individuals unable to attend the meeting, or any interested parties, may send written comments by e-mail to publichealth@iqsolutions.com for inclusion in the public record no later than close of business, Monday, January 6, 2003.

When mailing written comments, please provide your comments, if possible, as electronic version or on a diskette. Persons needing special assistance, such as sign language interpretation or other special accommodations, should contact staff at the address and telephone number listed above no later than close of business, Monday, January 6, 2003.

Dated: December 26, 2002.
Anna Snouffer,
Acting Director, Office of Federal Advisory Committee Policy.

This notice is being published less than 15 days in advance of the meeting due to scheduling conflicts.

[FR Doc. 03-42 Filed 1-2-03; 8:45 am]

BILLING CODE 4140-01-M